DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR part 107, subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before November 24, 2000.

ADDRESSES: Records Center, Research and Special Programs Administration, U.S. Department of Transportation, Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street, SW., Washington, DC 20590 or at http://dms.dot.gov.

This notice of receipt of applications for new exemptions is published in accordance with Part 107 of the Federal hazardous materials transportation law (49 U.S.C. 5117(b); 49 CFR 1.53(b)).

Issued in Washington, DC, on October 19, 2000.
J. Suzanne Hedgepeth,
Director, Office of Hazardous Materials Exemptions and Approvals.

New Exemptions
Application No. | Docket No. | Applicant | Regulation(s) affected | Nature of exemption thereof
12547-N | RSPA-00-8006 | Rohm and Haas Company, Philadelphia, PA | 49 CFR 177.834(i)(3) | To authorize the loading and/or unloading of hazardous materials to/from cargo tank motor vehicles without the physical presence of an unloader. (mode 1)
12548-N | RSPA-00-8005 | TriCal Inc., Hollister, CA | 49 CFR 174.67(i) & (j), 174.67(j) | To authorize rail car connectors to remain attached while standing without the physical presence of an unloader. (mode 2)
12549-N | RSPA-00-8004 | Griro S.A., Romania | 49 CFR 178.245-1(a) | To authorize the manufacture, marking, sale and use of DOT Specification 51 steel portable tanks permanently installed in an ISO frame that have been designated, constructed and stamped in accordance with Section VIII, Division 2 instead of Division 1 of the ASME Code. (modes 1, 2, 3)
12552-N | RSPA-00-8001 | Illbruck Sealant Systems, B.V., The Netherlands | 49 CFR 173.306(a)(3)(v) | To authorize an alternative testing method for specially designed aerosol containers for use in transporting limited quantities of Division 2.1 material. (modes 1, 2, 3)
12554-N | RSPA-00-8116 | LKQ Corporation, Lecanto, FL | 49 CFR 173.166(d)(3) | To authorize the transportation in commerce of recycled airbags in bulk shipment without intermediate form of containment. (mode 1)

[FR Doc. 00-27380 Filed 10-24-00; 8:45 am]

BILLING CODE 4910-60-M